DEPARTMENT OF COMMERCE

National Oceanic and Atmospheric Administration

[I.D. 101205A]

General Advisory Committee to the U.S. Section to the Inter-American Tropical Tuna Commission (IATTC); Meeting Announcement

AGENCY: National Marine Fisheries Service (NMFS), National Oceanic and Atmospheric Administration (NOAA), Commerce.

ACTION: Notice of public meeting.

SUMMARY: NMFS announces the meeting of the General Advisory Committee to the U.S. Section to the IATTC on November 1, 2005.

DATES: The open session of the General Advisory Committee meeting will be held on November 1, 2005, from 10 to 5 pm.

ADDRESSES: The meeting will be held at NMFS, Southwest Fisheries Science Center, Large Conference Room, 8604 La Jolla Shores Drive, La Jolla, CA 92037-1508.

FOR FURTHER INFORMATION CONTACT: J. Allison Routt at (562)980-4019.

SUPPLEMENTARY INFORMATION: In accordance with the Tuna Conventions Act, as amended, the Department of State has appointed a General Advisory Committee to the U.S. Section to the IATTC. The U.S. Section consists of the four U.S. Commissioners to the IATTC and the representative of the Deputy Assistant Secretary of State for Oceans and Fisheries. The Advisory Committee supports the work of the U.S. Section ina solely advisory capacity with respect to U.S. participation in the work of the IATTC, with particular reference to the development of policies and negotiating positions pursued at meetings of the IATTC. NMFS, Southwest Region, administers the Advisory Committee in cooperation with the Department of State.

The General Advisory Committee to the U.S. Section to the IATTC will meet to receive and discuss information on: (1) the results of the June 2005 Annual Meeting of the IATTC, (2) 2005 IATTC activities, (3) recent and upcoming meetings of the IATTC and its working groups, (4) IATTC cooperation with other regional fishery management organizations, and (5) Advisory Committee operational issues. The public will have access to the open session of the meeting.

Special Accommodations

The meeting location is physically accessible to people with disabilities. Requests for sign language interpretation or other auxiliary aids should be directed to Allison Routt at (562) 980-4019 at least 10 days prior to the meeting date.

Dated: October 12, 2005.
Alan D. Risenhoover,
Acting Director, Office of Sustainable Fisheries, National Marine Fisheries Service.

[FR Doc. 05-20714 Filed 10-14-05; 8:45 am]

BILLING CODE 3510-22-S